DEPARTMENT OF TRANSPORTATION

National Highway Traffic Safety Administration

[Docket No. NHTSA-2017-0073; Notice 2; Docket No. NHTSA-2017-0100; Notice 2]

FCA US LLC and Volkswagen Group of America, Inc., Grant of Petitions for Decision of Inconsequential Noncompliance

AGENCY: National Highway Traffic Safety Administration (NHTSA), Department of Transportation (DOT).

ACTION: Grant of petitions.

SUMMARY: FCA US LLC (FCA US), (formally known as: Chrysler Group LLC) and Volkswagen Group of America, Inc. (Volkswagen), have determined that certain Mopar Service seat belt assemblies sold to FCA dealers and Volkswagen dealers as replacement equipment in certain model year (MY) 1992-2018 FCA US motor vehicles and certain MY 2009-2018 Volkswagen Routan motor vehicles, do not fully comply with Federal Motor Vehicle Safety Standard (FMVSS) No. 209, Seat Belt Assemblies. The petitioners have requested that NHTSA deem the subject noncompliance inconsequential to motor vehicle safety. This document grants both petitions in full.

FOR FURTHER INFORMATION CONTACT: Jack Chern, Office of Vehicle Safety Compliance, NHTSA, telephone 202-366-0661, facsimile 202-366-3081.

SUPPLEMENTARY INFORMATION: I. Overview: FCA US has determined that certain Mopar Service seat belt assemblies sold to FCA dealers as replacement equipment in certain MY 1992-2018 FCA US motor vehicles do not fully comply with paragraphs S4.1(k) and S4.1(l) of FMVSS No. 209, Seat Belt Assemblies (49 CFR 571.209). FCA US filed a noncompliance report dated July 25, 2017, pursuant to 49 CFR part 573, Defect and Noncompliance Responsibility and Reports. FCA US also petitioned NHTSA on August 17, 2017, for an exemption from the notification and remedy requirements of 49 U.S.C. Chapter 301 on the basis that this noncompliance is inconsequential as it relates to motor vehicle safety, pursuant to 49 U.S.C. 30118(d) & 30120(h) and 49 CFR part 556, Exemption for Inconsequential Defect or Noncompliance. Notice of receipt of FCA US's petition was published with a 30-day public comment period, on December 7, 2017, in the Federal Register (82 FR 57814). No comments were received.

Volkswagen has determined that certain Mopar Service seat belt assemblies sold to Volkswagen dealers as replacement equipment in certain MY 2009-2018 Volkswagen Routan motor vehicles do not fully comply with paragraphs S4.1(k) and S4.1(l) of FMVSS No. 209. Volkswagen filed a noncompliance report dated November 8, 2017, pursuant to 49 CFR part 573. Volkswagen petitioned NHTSA on November 29, 2017, for an exemption from the notification and remedy requirements of 49 U.S.C. Chapter 301 on the basis that this noncompliance is inconsequential as it relates to motor vehicle safety, pursuant to 49 U.S.C. 30118(d) & 30120(h) and 49 CFR part 556. Notice of receipt of Volkswagen's petition was published with a 30-day public comment period, on March 21, 2018, in the Federal Register (83 FR 12458). No comments were received.

II. Equipment Involved: Approximately 1,900 replacement seat belt assemblies manufactured between June 25, 2008, and October 25, 2013 for installation in certain MY 2009-2018 Volkswagen Routan motor vehicles are potentially involved.

Approximately 728,100 Mopar Service seat belt assemblies sold to FCA dealers as replacement equipment for use in the following FCA motor vehicles are potentially involved:

• 2010-2017 Ram 3500 Cab Chassis (“DD”)

• 2016-2017 Ram 3500 Cab Chassis (“DF”)

• 2010-2017 Ram 2500 (“DJ”)

• 2010-2017 Ram 4500/5500 Cab Chassis (“DP”)

• 2009-2017 Ram 1500 (“DS”)

• 2010-2017 Ram 3500 (“D2”)

• 2012-2017 Fiat 500 (“FF”)

• 2009-2017 Dodge Journey (“JC”)

• 2007-2017 Jeep Wrangler (“JK”)

• 2014-2017 Jeep Cherokee (“KL”)

• 2015-2017 Dodge Challenger (“LA”)

• 2012-2017 Chrysler 300 (“LX”)

• 2012-2017 Dodge Charger (“LD”)

• 2008-2017 Jeep Compass (“MK”)

• 2008-2017 Jeep Patriot (“MK”)

• 2012-2017 Dodge Dart (“PF”)

• 2015-2017 Chrysler 200 (“UF”)

• 2008-2017 Chrysler Town & Country (“RT”)

• 2008-2017 Dodge Grand Caravan (“RT”)

• 2017 Chrysler Pacifica (“RU”)

• 2011-2017 Dodge Durango (“WD”)

• 2011-2017 Jeep Grand Cherokee (“WK”)

• 2013-2017 Dodge SRT Viper (“ZD”)

• 2002-2008 Dodge Ram 1500 (“DR”)

• 2004-2010 Dodge Durango (“HB”)

• 2007-2010 Chrysler Aspen (“HG”)

• 2005-2012 Dodge Dakota (“ND”)

• 1994-2002 Dodge Ram 1500 (“BR”)

• 1993-2004 Dodge Intrepid (“LH”)

• 1993-2004 Chrysler Concorde (“LH”)

• 1993-2004 Chrysler 300M (“LH”)

• 1995-2005 Dodge Neon (“PL”)

• 2006-2012 Dodge Caliber (“PM”)

• 1997-2000 Plymouth Prowler (“PR”)

• 2001-2002 Chrysler Prowler (“PR”)

• 2001-2010 Chrysler PT Cruiser (“PT”)

• 1992-2002 Dodge Viper (“SR”)

• 2003-2010 Dodge Viper (“ZB”)

• 1993-1998 Jeep Grand Cherokee (“ZJ”)

• 2014-2018 Ram ProMaster (“VF”)

• 2015-2018 Ram ProMaster City (“VM”)

• 2015-2018 Jeep Renegade (“BU”)

• 2015-2017 Fiat 500x (“FB”)

• 2014-2017 Fiat 500L (“BF”)

• 2016-2017 Alfa Romeo Giulia (“GA”)

• 2015-2017 Alfa Romeo 4C (“4C”)

• 2017 Fiat 124 Spider (“BA”)

III. Noncompliance: The petitioners explain that the subject noncompliance involves the Mopar Service Seat Belt assemblies sold to both FCA US and Volkswagen dealerships for use or for subsequent resale to dealers, for repairs by dealership service technicians, or dealership retail customers for installation and replacement parts in certain FCA US and Volkswagen vehicles. Specifically, the subject seat belt assemblies were sold without the proper inclusion of the “I-Sheets” (i.e., “Installation instructions” and “Usage and maintenance instructions”), and therefore, do not meet all applicable requirements specified in paragraphs S4.1(k) and 4.1(l) of FMVSS No. 209.

IV. Rule Text: Paragraph S4.1(k) and S4.1(l) of FMVSS No. 209 includes the requirements relevant to this petition:

• A seat belt assembly, other than a seat belt assembly installed in a motor vehicle by an automobile manufacturer, shall be accompanied by an instruction sheet providing sufficient information for installing the assembly in a motor vehicle.

• The installation instructions shall state whether the assembly is for universal installation or for installation only in specifically stated motor vehicles, and shall include at least those items specified in SAE Recommended Practice J800c (1973) (incorporated by reference, see § 571.5).

• If the assembly is for use only in specifically stated motor vehicles, the assembly shall either be permanently and legibly marked or labeled with the following statement, or the instruction sheet shall include the following statement:

○ This seat belt assembly is for use only in [insert specific seating position(s), e.g., “front right”] in [insert specific vehicle make(s) and model(s)].

• A seat belt assembly or retractor shall be accompanied by written instructions for the proper use of the assembly, stressing particularly the importance of wearing the assembly snugly and properly located on the body, and on the maintenance of the assembly and periodic inspection of all components.

• The instructions shall show the proper manner of threading webbing in the hardware of seat belt assemblies in which the webbing is not permanently fastened. Instructions for a nonlocking retractor shall include a caution that the webbing must be fully extended from the retractor during use of the seat belt assembly unless the retractor is attached to the free end of webbing which is not subjected to any tension during restraint of an occupant by the assembly. Instructions for Type 2a shoulder belt shall include a warning that the shoulder belt is not to be used without a lap belt.

V. Summary of Petitions: The petitioners described the subject noncompliance and stated their belief that the noncompliance is, in each case, inconsequential as it relates to motor vehicle safety.

In support, the petitioners submitted the following arguments:

1. The subject seat belt assemblies are only sold to FCA US and Volkswagen authorized dealerships for installation as replacement seat belts in certain FCA US and Volkswagen motor vehicles. These assemblies are not sold to aftermarket auto parts distributors or retail outlets.

2. The subject seat belt assemblies are clearly labeled and identifiable by part number in both the FCA US part system and Volkswagen's parts catalogue for use on specific make, model, and model year vehicles, and for specific seating positions.

3. In order to purchase these parts, the buyer would need to supply either the part assembly number or make, model, model year and seating position of the vehicle, thus, only the proper assembly would be sold to the end user.

4. Installation of the seat belt assembly is a complex process in the modern motor vehicle, unlike the vehicles in the past that the provisions [paragraph S4.1 of FMVSS No. 209] were intended to address. The method of identification and the physical differences between belt retractors and attachment hardware, as well as the vehicle installation environment, preclude the misinstallation of seat belt assemblies.

5. FCA US states that the proper installation procedure for all Mopar Service Seat Belt assemblies are clearly described in FCA US service manuals, which are also available online through DealerCONNECT and sold to the public through Mopar and FCA US brand websites. With respect to seat belt usage and installation instructions, FCA US stated that consumers who have purchased the seat belt assemblies in the past can contact the Parts Department at their dealer for a copy of the Instruction Sheets at no cost. FCA US also stated that instructions and information regarding proper usage, proper maintenance, and periodic inspection for damaged seat belts are included in the vehicle's Owner's Manual.

6. Volkswagen stated that their seat belt assembly installation instructions are included in Volkswagen Service Manuals and are available to independent repair shops and to individual owners, who can also purchase the Service Manual (which is a paid subscription) or seek dealer assistance and obtain copies of the installation instructions free of charge, if necessary. The instructions are also available on Parts on Command (POC) and can be printed, in house, at the dealership free of charge for the customers. In most cases, reference to the installation instructions will not be necessary because the seat belt installation will be to replace an existing belt and the installation procedure will just be the reverse of the removal procedure. With respect to seat belt usage and maintenance instructions, Volkswagen also stated that they have been included in all Volkswagen owners' manuals.

7. FCA US has notified its dealer of the existence of the noncompliance and the dealer will be automatically prompted to include the Service Instructions Sheets at the time when a customer purchases a seat belt assembly.

8. Volkswagen stated that the packaging for the supplied service seat belts should have been accompanied by the instruction sheet, however, because there was insufficient information to confirm that the instruction sheet accompanied the affected service parts. Volkswagen has determined to notify its dealers of the existence of the noncompliance. Volkswagen also stated that the instructions are now available on Parts on Command (POC) and can be printed free of charge at the dealership. These instruction sheets are required to be provided with every safety belt assembly or safety belt buckle sold- whether it be retail, wholesale, or in the shop.

9. The petitioners are not aware of any incidents or consumer complaints relating to the absence of the I-Sheet and use instructions with the sale of any of the subject seat belt assemblies.

FCA US and Volkswagen stated that there have been many instances of similar documentation omissions where the agency has granted inconsequential treatment. The petitioners cited the following examples: Mitsubishi Motors North America, Inc. (77 FR 24762, April 25, 2012); Bentley Motors, Inc. (75 FR 35877, September 20, 2011); Hyundai Motor Company (73 FR 49238, March 2, 2009); Ford Motor Company (73 FR 11462, March 3, 2008); Mazda North America Operations (73 FR 11464, March 3, 2008); Ford Motor Company (73 FR 63051, October 22, 2008); and TRW, Inc. (58 FR 7171, February 4, 1993).

FCA stated that the most notable grant of inconsequential treatment is Subaru of America, Inc. (65 FR 67471, November 9, 2000), where the agency made the following succinct observations:

There seems to be little need for the installation instructions with replacements for original equipment seat belts. The SAE J800c Recommended Practice incorporated in FMVSS No. 209 appears to have been written as a guide on how to install a seat belt where one does not exist. The Recommended Practice discusses such things as how to determine the correct location for anchorages, how to create adequate anchorages and how to properly attach webbing to the newly installed anchorages. These instructions do not apply to today's replacement market. Additionally, vehicle manufacturers provide service manuals on how seat belts should be replaced. NHTSA does not believe the “how to” instructions are necessary in this case. Next, we note that the subject seat belt assemblies were distributed without the required 'usage and maintenance instructions' specified in FMVSS No. 209, S4.1(l), which requires that seat belt assemblies sold as replacement equipment have owner instructions on how to wear the seat belt and how to properly thread the webbing on seat belts where the webbing is not permanently attached. NHTSA believes that the proper usage is adequately described in the vehicle owner's manual. NHTSA does not believe that instructions about the proper threading of webbing is applicable to modern original equipment automobile seat belt systems. This second instruction sheet is either duplicated in the owner's manual or not applicable.

The FCA US understands that while they may believe FMVSS No. 209 S4.1(k) and S4.1(l) are somewhat antiquated, it is nevertheless required to fully comply with this safety standard. In this regard, the petitioners have made process changes to ensure that hard copies of the I-Sheets will be included with all seat belt assemblies shipped to its dealers. FCA US has implemented changes in its part ordering process to ensure that all I-Sheets for Mopar Service Seat Belt assemblies affected by recall T49 (NHTSA 17E-039) have been uploaded to online resources (StarParts™ and DealerCONNECT) and directly linked to the specific Mopar Service Seat Belt part numbers. Going forward, this hard copy and on-line mating of the service parts and S4.1(k) and S4.1(l) instructions will ensure that the documentation requirement of FMVSS No. 209 will be met.

The petitioners concluded by expressing the belief that the subject noncompliance is inconsequential as it relates to motor vehicle safety, and that their petitions to be exempted from providing notification of the noncompliance, as required by 49 U.S.C. 30118, and a remedy for the noncompliance, as required by 49 U.S.C. 30120, should be granted.

VI. NHTSA's Analysis: To help ensure proper installation, usage, and maintenance of seat belt assemblies, paragraphs S4.1(k) and S4.1(l) of FMVSS No. 209 require that installation, usage, and maintenance instructions be provided with seat belt assemblies other than those installed by an automobile manufacturer.

First, with respect to the need to allow consumers to select the correct seat belt for their vehicle, we note that the subject seat belt assemblies are only made available to FCA US and Volkswagen authorized dealerships for their use or subsequent resale. Because the parts ordering process used by FCA US and Volkswagen authorized dealerships clearly identifies the correct service part by a vehicle's model, model year, and seating position, NHTSA believes that it is unlikely that an inappropriate seat belt assembly will be sold by the FCA US and Volkswagen dealership for a specific seating position within a vehicle.

Second, NHTSA recognizes the importance of having installation instructions available to installers as well as use and maintenance instructions available to consumers. The risk created by this noncompliance is that someone who purchased an assembly is unable to obtain the necessary installation information and therefore incorrectly installs the seat belt assembly. We note that technicians at dealerships have access to the seat belt assembly installation instructions in vehicle Service Manuals. Installers other than dealership technicians can obtain a copy of the installation instructions, free of charge, through the dealerships' network. The installation instructions are also available in the docket because they were submitted with the manufacture's petitions. FCA US and Volkswagen also stated that the subject seat belt assemblies can only be properly installed in the correct seat position of their intended vehicles. Thus, we conclude that installers have reasonable opportunities to locate installation instructions which would permit a proper installation, and that the instructions can be obtained free of charge.

In addition, NHTSA takes this opportunity to clarify prior statements concerning SAE Recommended Practice J800c. Paragraph S4.1(k) of FMVSS No. 209 requires “at least those items specified in SAE Recommended Practice J800c” be included in seat belt assembly instructions. As stated in SAE J800c, the “minimum instruction requirements may be supplemented by more specific manufacturer's instructions, if they are necessary to provide installation instructions in a particular vehicle.” Although mainly containing universal seat belt assembly installation instructions, SAE J800c acknowledges seat belt assemblies intended for installation in specific vehicles may require additional installation instructions. Also, per FMVSS No. 209, seat belt assembly intended for installation in specific vehicles must also have installation instructions provided when a seat belt assembly is not sold as an original item on a motor vehicle. To fulfill this intent, we conclude, as detailed in the previous paragraph, that installers should be able to obtain installation instructions which would permit a proper installation, and that the instructions can be obtained free of charge.

With respect to seat belt usage and maintenance instructions, we note that this information is readily available in the vehicle owner's manuals. In addition, consumers can also obtain this information, free of charge, through the vehicle's dealership networks. Thus, with respect to usage and maintenance instructions, it appears that there are satisfactory alternatives to meeting the intent of S4.1(l) of FMVSS No. 209.

NHTSA has granted similar petitions for failure to comply with requirements pertaining to seat belt assembly installation and usage instruction. Refer to Ford Motor Company (73 FR 11462, March 3, 2008); Mazda North America Operations (73 FR 11464, March 3, 2008); Ford Motor Company (73 FR 63051, October 22, 2008); Subaru of America, Inc. (65 FR 67471, November 9, 2000); Bombardier Motor Corporation of America, Inc. (65 FR 60238, October 10, 2000); TRW, Inc. (58 FR 7171, February 4, 1993); and Chrysler Corporation, (57 FR 45865, October 5, 1992).

VII. NHTSA's Decision: In consideration of the foregoing, NHTSA finds that both FCA US and Volkswagen have met their burden of persuasion that the FMVSS No. 209 noncompliance is inconsequential as it relates to motor vehicle safety. Accordingly, FCA US and Volkswagen's petitions are hereby granted and FCA US and Volkswagen are consequently exempted from the obligation to provide notification of, and remedy for, the subject noncompliance under 49 U.S.C. 30118 and 30120.

NHTSA notes that the statutory provisions (49 U.S.C. 30118(d) and 30120(h)) that permit manufacturers to file petitions for a determination of inconsequentiality allows NHTSA to exempt manufacturers only from the duties found in sections 30118 and 30120, respectively, to notify owners, purchasers, and dealers of a defect or noncompliance and to remedy the defect or noncompliance. Therefore, this decision only applies to the subject equipment that FCA US and Volkswagen no longer controlled at the time it determined that the noncompliance existed. However, the granting of this petition does not relieve equipment distributors and dealers of the prohibitions on the sale, offer for sale, or introduction or delivery for introduction into interstate commerce of the noncompliant equipment under their control after FCA US and Volkswagen notified them that the subject noncompliance existed.

Authority: (49 U.S.C. 30118, 30120: delegations of authority at 49 CFR 1.95 and 501.8)

Otto G. Matheke III,
Director, Office of Vehicle Safety Compliance.

[FR Doc. 2019-09751 Filed 5-10-19; 8:45 am]

BILLING CODE 4910-59-P